OFFICE OF MANAGEMENT AND BUDGET

Cost of Hospital and Medical Care Treatment Furnished by the United States; Certain Rates Regarding Recovery From Tortiously Liable Third Persons

By virtue of the authority vested in the President by Section 2(a) of Public Law 87-693 (76 Stat. 593; 42 U.S.C. 2652), and delegated to the Director of the Office of Management and Budget by Executive Order No. 11541 of July 1, 1970 (35 FR 10737), the three sets of rates outlined below are hereby established. These rates are for use in connection with the recovery, from tortiously liable third persons, of the cost of hospital and medical care and treatment furnished by the United States (Part 43, Chapter I, Title 28, Code of Federal Regulations) through three separate Federal agencies. The rates have been established in accordance with the requirements of OMB Circular A-25, requiring reimbursement of the full cost of all services provided. The rates are established as follows:

1. Department of Defense

The FY 2001 Department of Defense (DoD) reimbursement rates for inpatient, outpatient, and other services are provided in accordance with Title 10, United States Code, section 1095. Due to size, the sections containing the Drug Reimbursement Rates (section IV.C.) and the rates for Ancillary Services Requested by Outside Providers (section IV.D.) are not included in this package. Those rates are available from the TRICARE Management Activity's Uniform Business Office website, http://www.tricare.osd.mil/ebc/rm/rm_home.html. The medical and dental service rates in this package (including the rates for ancillary services and other procedures requested by outside providers) are effective October 1, 2000. Pharmacy rates are updated on an as needed basis.

2. Health and Human Services

The FY 2001 tortiously liable rates for Indian Health Service health facilities are based on Medicare cost reports. The obligations for the Indian Health Service hospitals participating in the cost report project were identified and combined with applicable obligations for area offices costs and headquarters costs. The hospital obligations were summarized for each major cost center providing medical services and distributed between inpatient and outpatient. Total inpatient costs and outpatient costs were then divided by the relevant workload statistic (inpatient day, outpatient visit) to produce the inpatient and outpatient rates. In calculation of the rates, the Department's unfunded retirement liability cost and capital and equipment depreciation costs were incorporated to conform to requirements set forth in OMB Circular A-25.

In addition, the obligations for each cost center include obligations from certain other accounts, such as Medicare and Medicaid collections and the Contract Health fund, that were used to support the inpatient and outpatient workload. Obligations were excluded for certain cost centers that primarily support workloads outside of the directly operated hospitals or clinics (public health nursing, public health nutrition, health education). These obligations are not a part of the traditional cost of hospital operations and do not contribute directly to the inpatient and outpatient visit workload.

Separate rates per inpatient day and outpatient visit were computed for Alaska and the rest of the United States. This gives proper weight to the higher cost of operating medical facilities in Alaska.

1. Department of Defense

For the Department of Defense, effective October 1, 2000 and thereafter:

Inpatient, Outpatient and Other Rates and Charges

1. Inpatient Rates12

Per inpatient day | International Military Education and Training (IMET) | Interagency and other Federal agency sponsored patients | Other (full/third party)
A. Burn Center | $4,144.00 | $5,694.00 | $6,016.00
B. Surgical Care Services (Cosmetic Surgery) | 1,895.00 | 2,604.00 | 2,752.00
C. All Other Inpatient Services (Based on Diagnosis Related Groups (DRG) ³

Average FY01 Direct Care Inpatient Reimbursement Rates

Adjusted standard amount | IMET | Interagency | Other (full/third party)
Large Urban | $2,986.00 | $5,712.00 | $6,002.00
Other Urban/Rural | 3,468.00 | 6,633.00 | 7,004.00
Overseas | 3,872.00 | 9,045.00 | 9,489.00

2. Overview

The FY01 inpatient rates are based on the cost per DRG, which is the inpatient full reimbursement rate per hospital discharge weighted to reflect the intensity of the principal diagnosis, secondary diagnoses, procedures, patient age, etc. involved. The average cost per Relative Weighted Product (RWP) for large urban, other urban/rural, and overseas facilities will be published annually as an inpatient adjusted standardized amount (ASA) (see paragraph I.C.1., above). The ASA will be applied to the RWP for each inpatient case, determined from the DRG weights, outlier thresholds, and payment rules published annually for hospital reimbursement rates under the Civilian Health and Medical Program of the Uniformed Services (CHAMPUS) pursuant to 32 CFR 199.14(a)(1), including adjustments for length of stay (LOS) outliers. Each large urban or other urban/rural MTF providing inpatient care has their own ASA rate—The MTF-specific ASA rate is the published ASA rate adjusted for area wage differences and indirect medical education (IME) for the discharging hospital (see Attachment 1). The MTF-specific ASA rate submitted on the claim is the rate that payers will use for reimbursement purposes. For a more complete description of the development of MTF-ASAs and how they are applied refer to the ASA Primer at http://www.tricare.osd.mil/org/pae/asa—primer/asa—primer1.html.

Overseas MTFs use the rates specified in paragraph I. C. 1. For providers performing inpatient care at a civilian facility for a DoD beneficiary, see note 3. An example of how to apply DoD costs to a DRG standardized weight to arrive at DoD costs is contained in paragraph I.C.3., below.

3. Example of Adjusted Standardized Amounts for Inpatient Stays

Figure 1 shows examples for a non-teaching hospital (Reynolds Army Community Hospital) in an Other Urban/Rural area.

a. The cost to be recovered is the military treatment facility's cost for medical services provided. Billings will be at the third party rate.

b. DRG 020: Nervous System Infection Except Viral Meningitis. The RWP for an inlier case is the CHAMPUS weight of 2.2244. (DRG statistics shown are from FY 1999.)

c. The MTF-applied ASA rate is $6,831 (Reynolds Army Community Hospital's third party rate as shown in Attachment 1).

d. The MTF cost to be recovered is the RWP factor (2.2244) in subparagraph 3.b., above, multiplied by the amount ($6,831) in subparagraph 3.c., above.

e. Cost to be recovered is $15,195.

Figure 1.—Third Party Billing Examples
DRG number | DRG description | DRG weight | Arithmetic mean LOS | Geometric mean LOS | Short stay threshold | Long stay threshold
020 | Nervous System Infection Except Viral Meningitis | 2.2244 | 8.3 | 5.8 | 1 | 29

Hospital | Location | Area wage rate index | IME adjustment | Group ASA | MTF-applied ASA
Reynolds Army Community Hospital | Other urban/rural | .9156 | 1.0 | $7,004 | $6,831

Patient | Length of stay (days) | Days above threshold | Relative weighted product: Inlier* | Relative weighted product: Outlier** | Relative weighted product: Total | TPC Amount***
#1 | 7 | 0 | 2.2244 | 000 | 2.2244 | $15,195
#2 | 21 | 0 | 2.2244 | 000 | 2.2244 | $15,195
#3 | 35 | 6 | 2.2244 | .7594 | 2.9838 | $20,382
* DRG Weight
** Outlier calculation = 33 percent of per diem weight × number of outlier days
= .33 (DRG Weight/Geometric Mean LOS) × (Patient LOS—Long Stay Threshold)
= .33 (2.2244/5.8) × (35-29)
= .33 (.38352) × 6 (take out to five decimal places)
= .12656 × 6 (carry to five decimal places)
= .7594 (carry to four decimal places)
*** MTF-Applied ASA × Total RWP

II. Outpatient Rates
[Per Visit ¹,²]
MEPRS code ⁴ | Clinical service | International military education and training (IMET) | Interagency and other federal agency sponsored patients | Other (full/third party)
| A. Medical Care:
BAA | Internal Medicine | $147.00 | $204.00 | $216.00
BAB | Allergy | 80.00 | 111.00 | 117.00
BAC | Cardiology | 129.00 | 180.00 | 190.00
BAE | Diabetic | 105.00 | 146.00 | 154.00
BAF | Endocrinology (Metabolism) | 151.00 | 210.00 | 222.00
BAG | Gastroenterology | 183.00 | 255.00 | 269.00
BAH | Hematology | 286.00 | 398.00 | 420.00
BAI | Hypertension | 216.00 | 301.00 | 318.00
BAJ | Nephrology | 221.00 | 307.00 | 324.00
BAK | Neurology | 165.00 | 229.00 | 242.00
BAL | Outpatient Nutrition | 69.00 | 96.00 | 101.00
BAM | Oncology | 201.00 | 280.00 | 295.00
BAN | Pulmonary Disease | 186.00 | 259.00 | 273.00
BAO | Rheumatology | 139.00 | 194.00 | 205.00
BAP | Dermatology | 115.00 | 160.00 | 169.00
BAQ | Infectious Disease | 181.00 | 252.00 | 266.00
BAR | Physical Medicine | 115.00 | 160.00 | 169.00
BAS | Radiation Therapy | 169.00 | 235.00 | 248.00
BAT | Bone Marrow Transplant | 190.00 | 264.00 | 279.00
BAU | Genetic | 330.00 | 460.00 | 485.00
BAV | Hyperbaric | 344.00 | 480.00 | 506.00
| B. Surgical Care:
BBA | General Surgery | 215.00 | 299.00 | 316.00
BBB | Cardiovascular and Thoracic Surgery | 419.00 | 584.00 | 616.00
BBC | Neurosurgery | 249.00 | 347.00 | 366.00
BBD | Ophthalmology | 130.00 | 181.00 | 191.00
BBE | Organ Transplant | 1,106.00 | 1,541.00 | 1,625.00
BBF | Otolaryngology | 149.00 | 207.00 | 219.00
BBG | Plastic Surgery | 168.00 | 235.00 | 247.00
BBH | Proctology | 125.00 | 174.00 | 184.00
BBI | Urology | 164.00 | 228.00 | 240.00
BBJ | Pediatric Surgery | 89.00 | 125.00 | 131.00
BBK | Peripheral Vascular Surgery | 98.00 | 137.00 | 145.00
BBL | Pain Management | 138.00 | 193.00 | 203.00
BBM | Vascular and Interventional Radiology | 493.00 | 687.00 | 724.00
| C. Obstetrical and Gynecological (OB-GYN) Care:
BCA | Family Planning | 76.00 | 106.00 | 111.00
BCB | Gynecology | 127.00 | 177.00 | 187.00
BCC | Obstetrics | 104.00 | 144.00 | 152.00
BCD | Breast Cancer Clinic | 240.00 | 334.00 | 352.00
| D. Pediatric Care:
BDA | Pediatric | 92.00 | 128.00 | 134.00
BDB | Adolescent | 83.00 | 115.00 | 121.00
BDC | Well Baby | 63.00 | 87.00 | 92.00
| E. Orthopaedic Care:
BEA | Orthopaedic | 143.00 | 200.00 | 211.00
BEB | Cast | 89.00 | 123.00 | 130.00
BEC | Hand Surgery | 76.00 | 106.00 | 112.00
BEE | Orthotic Laboratory | 93.00 | 130.00 | 137.00
BEF | Podiatry | 80.00 | 112.00 | 118.00
BEZ | Chiropractic | 38.00 | 53.00 | 55.00
| F. Psychiatric and/or Mental Health Care:
BFA | Psychiatry | 165.00 | 230.00 | 242.00
BFB | Psychology | 115.00 | 160.00 | 169.00
BFC | Child Guidance | 92.00 | 128.00 | 135.00
BFD | Mental Health | 148.00 | 206.00 | 217.00
BFE | Social Work | 147.00 | 205.00 | 217.00
BFF | Substance Abuse | 141.00 | 197.00 | 208.00
| G. Family Practice/Primary Medical Care:
BGA | Family Practice | 107.00 | 149.00 | 157.00
BHA | Primary Care | 109.00 | 151.00 | 160.00
BHB | Medical Examination | 111.00 | 155.00 | 163.00
BHC | Optometry | 72.00 | 100.00 | 105.00
BHD | Audiology | 52.00 | 73.00 | 77.00
BHE | Speech Pathology | 122.00 | 170.00 | 180.00
BHF | Community Health | 85.00 | 118.00 | 125.00
BHG | Occupational Health | 108.00 | 151.00 | 159.00
BHH | TRICARE Outpatient | 74.00 | 104.00 | 109.00
BHI | Immediate Care | 161.00 | 225.00 | 237.00
| H. Emergency Medical Care:
BIA | Emergency Medical | 173.00 | 242.00 | 255.00
| I. Flight Medical Care:
BJA | Flight Medicine | 124.00 | 173.00 | 182.00
| J. Underseas Medical Care:
BKA | Underseas Medicine | 77.00 | 108.00 | 114.00
| K. Rehabilitative Services:
BLA | Physical Therapy | 56.00 | 79.00 | 83.00
BLB | Occupational Therapy | 75.00 | 104.00 | 110.00

III. Ambulatory Procedure Visit (APV)
[Per visit ⁵]
MEPRS code ⁴ | Clinical service | International military education and training (IMET) | Interagency and other federal agency sponsored patients | Other (full/third party)
| Medical Care:
BB | Surgical Care | $1,313.00 | $1,829.00 | $1,929.00
BE | Orthopaedic Care | 1,664.00 | 2,319.00 | 2,446.00
All Other | B clinics other than BB and BE, to include those B clinics where: | 378.00 | 527.00 | 556.00
| 1. There is an APU established within DoD guidelines AND—
| 2. There is a rate established for that clinic in section II. Some B clinics, such as BF, BI, BJ and BL, perform the type of services where the establishment of an APU would not be within appropriate clinical guidelines.

IV. Other Rates and Charges ¹ ²
MEPRS code ⁴ | Clinical service | International military education and training (IMET) | Interagency and other federal agency sponsored patients | Other (full/third party)
| A. Per Each:
FBI | Immunization | $22.00 | $31.00 | $32.00
| B. Family Member Rate: $11.45 (formerly Military Dependents Rate)
| C. Reimbursement Rates For Drugs Requested By Outside Providers: ⁶ \15\
| D. Ancillary Services Requested by an Outside Provider—Per Procedure: ⁷ ¹⁵
DB | Laboratory procedures requested by an outside provider CPT '00 Weight Multiplier | 15.00 | 22.00 | 23.00
DC, DI | Radiology procedures requested by an outside provider CPT '00 Weight Multiplier | 79.00 | 115.00 | 120.00
| E. Dental Rate—Per Procedure: ¹¹
| Dental Services ADA code weight multiplier | 73.00 | 112.00 | 117.00
| F. Ambulance Rate—Per Hour: ¹²
FEA | Ambulance | 81.00 | 113.00 | 120.00
| G. AirEvac Rate—Per Trip (24 hour period): ¹³
| AirEvac Services—Ambulatory | 339.00 | 473.00 | 499.00
| AirEvac Services—Litter | 989.00 | 1,379.00 | 1,454.00
| H. Observation Rate—Per hour—¹⁴
| Observation Services—Hour | 20.00 | 28.00 | 30.00

V. Elective Cosmetic Surgery Procedures and Rates
Cosmetic surgery procedure | International classification diseases (ICD-9) | Current procedural terminology (CPT) ⁸ | FY 2001 Charge ⁹ | Amount of charge
Mammaplasty—augmentation | 85.50 | 19325 | Inpatient Surgical Care Per Diem or APV | (ᵃ) (ᵇ)
| 85.32 | 19324
| 85.31 | 19318
Mastopexy | 85.60 | 19316 | Inpatient Surgical Care Per Diem or APV or applicable Outpatient Clinic Rate | (ᵃ) (ᵇ) (ᶜ)
Facial | 86.82 | 15824 | Inpatient Surgical Care Per Diem or APV | (ᵃ) (ᵇ)
Rhytidectomy | 86.22 |
Blepharoplasty | 08.70 | 15820 | Inpatient Surgical Care Per Diem or APV or applicable Outpatient Clinic Rate | (ᵃ) (ᵇ) (ᶜ)
| 08.44 | 15821
|  | 15822
|  | 15823
Mentoplasty (Augmentation/or Reduction) | 76.68 | 21208 | Inpatient Surgical Care Per Diem APV or applicable Outpatient Clinic Rate | (ᵃ) (ᵇ) (ᶜ)
| 76.67 | 21209
Abdominoplasty | 86.83 | 15831 | Inpatient Surgical Care Per Diem or APV or applicable Outpatient Clinic Rate | (ᵃ) (ᵇ) (ᶜ)
Lipectomy | 86.83 | 15876 | Inpatient Surgical Care Per Diem or APV or applicable Outpatient Clinic Rate | (ᵃ) (ᵇ) (ᶜ)
Suction per region 10 |  | 15877
|  | 15878
|  | 15879
Rhinoplasty | 21.87 | 30400 | Inpatient Surgical Care Per Diem or APV or applicable Outpatient Clinic Rate | (ᵃ) (ᵇ) (ᶜ)
| 21.86 | 30410
Scar Revisions beyond CHAMPUS | 86.84 | 1578_ | Inpatient Surgical Care Per Diem or APV or applicable Outpatient Clinic Rate | (ᵃ) (ᵇ) (ᶜ)
Mandibular or Maxillary Repositioning | 76.41 | 21194 | Inpatient Surgical Care Per Diem or APV or applicable Outpatient Clinic Rate | (ᵃ) (ᵇ) (ᶜ)
Dermabrasion | 86.25 | 15780 | Inpatient Surgical Care Per Diem or APV or applicable Outpatient Clinic Rate | (ᵃ) (ᵇ) (ᶜ)
Hair Restoration | 86.64 | 15775 | Inpatient Surgical Care Per Diem or APV or applicable Outpatient Clinic Rate | (ᵃ) (ᵇ) (ᶜ)
Removing Tattoos | 86.25 | 15780 | Inpatient Surgical Care Per Diem or APV or applicable Outpatient Clinic Rate | (ᵃ) (ᵇ) (ᶜ)
Chemical Peel | 86.24 | 15790 | Inpatient Surgical Care Per Diem or APV or applicable Outpatient Clinic Rate | (ᵃ) (ᵇ) (ᶜ)
Arm/Thigh: Dermolipectomy | 86.83 | 15836/ | Inpatient Surgical Care Per Diem or APV APV or applicable Outpatient Clinic Rate | (ᵃ) (ᵇ) (ᵇ) (ᶜ) (ᵉ)
Refractive surgery |  | 15832
Radial Keratotomy |  | 65771
Other Procedure (if applies to laser or other refractive surgery) |  | 66999
Otoplasty |  | 69300 | APV or applicable Outpatient Clinic Rate | (ᵇ) (ᶜ)
Brow Lift | 86.3 | 15839 | Inpatient Surgical Care Per Diem or APV or applicable Outpatient Clinic Rate | (ᵃ) (ᵇ) (ᶜ)

Notes on Cosmetic Surgery Charges

ᵃ Per diem charges for inpatient surgical care services are listed in section I.B. (See notes 8 through 10, below, for further details on reimbursable rates.)

ᵇ Charges for ambulatory procedure visits (formerly same day surgery) are listed in section III. (See notes 8 through 10, below, for further details on reimbursable rates.) The ambulatory procedure visit (APV) rate is used if the elective cosmetic surgery is performed in an ambulatory procedure unit (APU).

ᶜ Charges for outpatient clinic visits are listed in sections II.A-K. The outpatient clinic rate is not used for services provided in an APU. The APV rate should be used in these cases.

ᵈ Charge is solely determined by the location of where the care is provided and is not to be based on any other criteria. An APV rate can only be billed if the location has been established as an APU following all required DoD guidelines and instructions.

ᵉ Refer to HA Policy on Vision Correction Via Laser Surgery For Non-Active Duty Beneficiaries, April 7, 2000 for further guidance on billing for these services. It can be downloaded from http://www.tricare.osd.mil/policy/2000poli.htm.

Notes on Reimbursable Rates

¹ Percentages can be applied when preparing bills for both inpatient and outpatient services. Pursuant to the provisions of 10 U.S.C. 1095, the inpatient Diagnosis Related Groups and inpatient per diem percentages are 98 percent hospital and 2 percent professional charges. The outpatient per visit percentages are 89 percent outpatient services and 11 percent professional charges.

² DoD civilian employees located in overseas areas shall be rendered a bill when services are performed.

³ The cost per Diagnosis Related Group (DRG) is based on the inpatient full reimbursement rate per hospital discharge, weighted to reflect the intensity of the principal and secondary diagnoses, surgical procedures, and patient demographics involved. The adjusted standardized amounts (ASA) per Relative Weighted Product (RWP) for use in the direct care system is comparable to procedures used by the Health Care Financing Administration (HCFA) and the Civilian Health and Medical Program for the Uniformed Services (CHAMPUS). These expenses include all direct care expenses associated with direct patient care. The average cost per RWP for large urban, other urban/rural, and overseas will be published annually as an adjusted standardized amount (ASA) and will include the cost of inpatient professional services. The DRG rates will apply to reimbursement from all sources, not just third party payers.

MTFs without inpatient services, whose providers are performing inpatient care in a civilian facility for a DoD beneficiary, can bill payers the percentage of the charge that represents professional services as provided in ¹ above. The ASA rate used in these cases, based on the absence of a ASA rate for the facility, will be based on the average ASA rate for the type of metropolitan statistical area the MTF resides, large urban, other urban/rural, or overseas. (see paragraph I.C.1.). The Uniform Business Office must receive documentation of care provided in order to produce a bill.

⁴ The Medical Expense and Performance Reporting System (MEPRS) code is a three digit code which defines the summary account and the sub account within a functional category in the DoD medical system. MEPRS codes are used to ensure that consistent expense and operating performance data is reported in the DoD military medical system. An example of the MEPRS hierarchical arrangement follows:

| MEPRS Code
Outpatient Care (Functional Category) | B.
Medical Care (Summary Account) | BA.
Internal Medicine (Subaccount) | BAA.

⁵ Ambulatory procedure visit is defined in DoD Instruction 6025.8, “Ambulatory Procedure Visit (APV),” dated September 23, 1996, as immediate (day of procedure) pre-procedure and immediate post-procedure care requiring an unusual degree of intensity and provided in an ambulatory procedure unit (APU). An APU is a location or organization within an MTF (or freestanding outpatient clinic) that is specially equipped, staffed, and designated for the purpose of providing the intensive level of care associated with APVs. Care is required in the facility for less than 24 hours. All expenses and workload are assigned to the MTF-established APU associated with the referring clinic. The BB and BE APV rates are to be used only by clinics that are subaccounts under these summary accounts (see ⁴ for an explanation of MEPRS hierarchical arrangement). The All Other APV rate is to be used only by those clinics that are not a subaccount under BB or BE. In addition, APV rates may only be utilized for clinics where there is a clinic rate established. For example, BLC, Neuromuscular Screening, no longer has an established rate. Therefore, an APU can not be defined and an APV can not be billed for this clinic.

⁶ Third party payers (such as insurance companies) shall be billed for prescription services when beneficiaries who have medical insurance obtain medications from a Military Treatment Facility (MTF) that are prescribed by providers external to the MTF (e.g., physicians and dentists). Eligible beneficiaries (family members or retirees with medical insurance) are not liable personally for this cost and shall not be billed by the MTF. Medical Services Account (MSA) patients, who are not beneficiaries as defined in 10 U.S.C. 1074 and 1076, are charged at the “Other” rate if they are seen by an outside provider and only come to the MTF for prescription services. The standard cost of medications ordered by an outside provider includes the DoD-wide average cost of the drug, calculated by National Drug Code (NDC) number. The prescription charge is calculated by multiplying the number of units (e.g., tablets or capsules) by the unit cost and adding $6.00 for the cost of dispensing the prescription. Dispensing costs include overhead, supplies and labor, etc. to fill the prescription.

The list of drug reimbursement rates is too large to include in this document. Those rates are available from the TRICARE Management Activity's Uniform Business Office website, http://www.tricare.osd.mil/ebc/rm/rm_home.html.

⁷ The list of FY 2001 rates for ancillary services requested by outside providers and obtained at a Military Treatment Facility is too large to include in this document. Those rates are available from the TRICARE Management Activity's Uniform Business Office website, http://www.tricare.osd.mil/ebc/rm/rm_home.html.

Charges for ancillary services requested by an outside provider (e.g., physicians and dentists) are relevant to the Third Party Collection Program. Third party payers (such as insurance companies) shall be billed for ancillary services when beneficiaries who have medical insurance obtain services from the MTF which are prescribed by providers external to the MTF. Laboratory and Radiology procedure costs are calculated by multiplying the DoD established weight for the Physicians' Current Procedural Terminology (CPT 00) code by either the laboratory or radiology multiplier (section IV.D.). Radiology procedures performed by Nuclear Medicine use the same methodology as Radiology for calculating a charge because their workload and expenses are included in the establishment of the Radiology multiplier.

Eligible beneficiaries (family members or retirees with medical insurance) are not personally liable for this cost and shall not be billed by the MTF. MSA patients, who are not beneficiaries as defined by 10 U.S.C. 1074 and 1076, are charged at the “Other” rate if they are seen by an outside provider and only come to the MTF for ancillary services.

⁸ The attending physician is to complete the CPT 00 code to indicate the appropriate procedure followed during cosmetic surgery. The appropriate rate will be applied depending on the treatment modality of the patient: ambulatory procedure visit, outpatient clinic visit or inpatient surgical care services.

⁹ Family members of active duty personnel, retirees and their family members, and survivors shall be charged elective cosmetic surgery rates. Elective cosmetic surgery procedure information is contained in section V. The patient shall be charged the rate as specified in the FY 2001 reimbursable rates for an episode of care. The charges for elective cosmetic surgery are at the full reimbursement rate (designated as the “Other” rate) for inpatient per diem surgical care services in section I.B., ambulatory procedure visits as contained in section III., or the appropriate outpatient clinic rate in sections II.A-K. The patient is responsible for the cost of the implant(s) and the prescribed cosmetic surgery rate. (Note: The implants and procedures used for the augmentation mammaplasty are in compliance with Federal Drug Administration guidelines.)

¹⁰ Each regional lipectomy shall carry a separate charge. Regions include head and neck, abdomen, flanks, and hips.

¹¹ Dental service rates are based on a dental rate multiplied by the DoD established weight for the American Dental Association (ADA) code performed. For example, for ADA code 00270, bite wing single film, the weight is 0.15. The weight of 0.15 is multiplied by the appropriate rate, IMET, IAR, or Full/Third Party rate to obtain the charge. If the Full/Third Party rate is used, then the charge for this ADA code will be $17.55 ($117 × .15 = $17.55).

The list of FY 2001 ADA codes and weights for dental services is too large to include in this document. Those rates are available from the TRICARE Management Activity's Uniform Business Office website, http://www.tricare.osd.mil/ebc/rm/rm_home.html.

¹² Ambulance charges shall be based on hours of service in 15 minute increments. The rates listed in section IV.F. are for 60 minutes or 1 hour of service. Providers shall calculate the charges based on the number of hours (and/or fractions of an hour) that the ambulance is logged out on a patient run. Fractions of an hour shall be rounded to the next 15 minute increment (e.g., 31 minutes shall be charged as 45 minutes).

¹³ Air in-flight medical care reimbursement charges are determined by the status of the patient (ambulatory or litter) and are per patient during a 24 hour period. The appropriate charges are billed only by the Air Force Global Patient Movement Requirement Center (GPMRC). These charges are only for the cost of providing medical care. Flight charges are billed by GPMRC separately.

¹⁴ Observation Services are billed at the hourly charge. Begin counting when the patient is placed in the observation bed and round to the nearest hour. For example, if a patient has received one hour and 20 minutes of observation, then you bill for one hour of service. If the status of a patient changes to inpatient, the charges for observation services are added to the DRG assigned to the case and not separately billed. If a patient is released from observation status and is sent to an APV, the charges for observation services are not billed separately but are added to the APV rate to recover all expenses.

¹⁵ Final rule 32 CFR part 220, published February 16, 2000, eliminated the dollar threshold for high cost ancillary services and the associated term “high cost ancillary service.” The phrase “high cost ancillary service” is replaced with the phrase “ancillary services requested by an outside provider.” The elimination of the threshold also eliminated the need to bundle costs whereby a patient is billed if the total cost of ancillary services in a day (defined as 0001 hours to 2400 hours) exceeds $25.00. The elimination of the threshold is effective as per date stated in final rule 32 CFR Part 220.

Attachment 1.—Adjusted Standardized Amounts (ASA) By Military Treatment Facility
DMISID | MTF name | Serv | Full cost rate | Interagency rate | IMET rate | TPC rate
0003 | Lyster AH—Ft. Rucker | A | $6,637 | $6,286 | $3,286 | $6,637
0004 | 502nd Med Grp—Maxwell AFB | F | 6,984 | 6,614 | 3,458 | 6,984
0005 | Bassett ACH—Ft. Wainwright | A | 7,152 | 6,774 | 3,541 | 7,152
0006 | 3rd Med Grp—Elmendorf AFB | F | 7,041 | 6,668 | 3,486 | 7,041
0009 | 56th Med Grp—Luke AFB | F | 5,986 | 5,697 | 2,978 | 5,986
0014 | 60th Med Grp—Travis AFB | F | 9,912 | 9,387 | 4,907 | 9,912
0018 | 30th Med Grp—Vandenberg AFB | F | 7,035 | 6,663 | 3,483 | 7,035
0019 | 95th Med Grp—Edwards AFB | F | 7,004 | 6,633 | 3,468 | 7,004
0024 | NH Camp Pendleton | N | 7,614 | 7,245 | 3,787 | 7,614
0028 | NH Lemoore | N | 6,997 | 6,627 | 3,465 | 6,997
0029 | NH San Diego | N | 9,744 | 9,273 | 4,847 | 9,744
0030 | NH Twenty Nine Palms | N | 6,111 | 5,815 | 3,039 | 6,111
0032 | Evans ACH—Ft. Carson | A | 6,946 | 6,578 | 3,439 | 6,946
0033 | 10th Med Grp—USAF Academy | F | 6,994 | 6,623 | 3,463 | 6,994
0037 | Walter Reed AMC— Washington DC | A | 9,010 | 8,574 | 4,482 | 9,010
0038 | NH Pensacola | N | 8,939 | 8,465 | 4,426 | 8,939
0039 | NH Jacksonville | N | 7,537 | 7,173 | 3,749 | 7,537
0042 | 96th Med Grp—Eglin AFB | F | 8,309 | 7,869 | 4,114 | 8,309
0043 | 325th Med Grp—Tyndall AFB | F | 7,002 | 6,631 | 3,467 | 7,002
0045 | 6th Med Grp—MacDill AFB | F | 5,991 | 5,702 | 2,980 | 5,991
0047 | Eisenhower AMC—Ft. Gordon | A | 8,550 | 8,098 | 4,233 | 8,550
0048 | Martin ACH—Ft. Benning | A | 7,987 | 7,564 | 3,954 | 7,987
0049 | Winn ACH—Ft. Stewart | A | 6,644 | 6,292 | 3,289 | 6,644
0052 | Tripler AMC—Ft. Shafter | A | 9,533 | 9,029 | 4,720 | 9,533
0053 | 366th Med Grp—Mountain Home AFB | F | 6,982 | 6,612 | 3,457 | 6,982
0055 | 375th Med Grp—Scott AFB | F | 7,625 | 7,256 | 3,793 | 7,625
0056 | NH Great Lakes | N | 6,063 | 5,770 | 3,016 | 6,063
0057 | Irwin AH—Ft. Riley | A | 6,521 | 6,176 | 3,229 | 6,521
0060 | Blanchfield ACH—Ft. Campbell | A | 6,605 | 6,255 | 3,270 | 6,605
0061 | Ireland ACH—Ft. Knox | A | 6,829 | 6,467 | 3,381 | 6,829
0064 | Bayne-Jones ACH—Ft. Polk | A | 6,573 | 6,225 | 3,254 | 6,573
0066 | 89th Med Grp—Andrews AFB | F | 8,062 | 7,672 | 4,010 | 8,062
0067 | NNMC Bethesda | N | 9,786 | 9,313 | 4,868 | 9,786
0073 | 81st Med Grp—Keesler AFB | F | 8,772 | 8,308 | 4,343 | 8,772
0075 | Wood ACH—Ft. Leonard Wood | A | 6,539 | 6,193 | 3,237 | 6,539
0078 | 55th Med Grp—Offutt AFB | F | 8,697 | 8,236 | 4,306 | 8,697
0079 | 99th Med Grp—Nellis AFB | F | 6,002 | 5,712 | 2,986 | 6,002
0083 | 377th Med Grp—Kirtland AFB | F | 6,971 | 6,602 | 3,452 | 6,971
0084 | 49th Med Grp—Holloman AFB | F | 7,004 | 6,633 | 3,468 | 7,004
0086 | Keller ACH—West Point | A | 7,296 | 6,909 | 3,612 | 7,296
0089 | Womack AMC—Ft. Bragg | A | 7,817 | 7,403 | 3,870 | 7,817
0091 | NH Camp LeJeune | N | 6,744 | 6,387 | 3,339 | 6,744
0092 | NH Cherry Point | N | 6,788 | 6,429 | 3,361 | 6,788
0093 | 319th Med Grp—Grand Forks AFB | F | 7,032 | 6,660 | 3,482 | 7,032
0094 | 5th Med Grp—Minot AFB | F | 6,857 | 6,494 | 3,395 | 6,857
0095 | 74th Med Grp—Wright-Patterson AFB | F | 10,371 | 9,822 | 5,135 | 10,371
0096 | 72nd Med Grp—Tinker AFB | F | 6,001 | 5,711 | 2,985 | 6,001
0097 | 97th Med Grp—Altus AFB | F | 6,976 | 6,607 | 3,454 | 6,976
0098 | Reynolds ACH—Ft. Sill | A | 6,831 | 6,469 | 3,382 | 6,831
0100 | NH Newport | N | 6,002 | 5,712 | 2,986 | 6,002
0101 | 20th Med Grp—Shaw AFB | F | 6,964 | 6,595 | 3,448 | 6,964
0103 | NH Charleston | N | 6,879 | 6,514 | 3,406 | 6,879
0104 | NH Beaufort | N | 6,871 | 6,507 | 3,402 | 6,871
0105 | Moncrief ACH—Ft. Jackson | A | 6,961 | 6,592 | 3,446 | 6,961
0106 | 28th Med Grp—Ellsworth AFB | F | 6,939 | 6,572 | 3,436 | 6,939
0108 | Wm Beaumont AMC—Ft. Bliss | A | 8,329 | 7,888 | 4,124 | 8,329
0109 | Brooke AMC—Ft. Sam Houston | A | 8,511 | 8,099 | 4,233 | 8,511
0110 | Darnall AH—Ft. Hood | A | 8,606 | 8,151 | 4,261 | 8,606
0112 | 7th Med Grp—Dyess AFB | F | 6,892 | 6,528 | 3,413 | 6,892
0113 | 82nd Med Grp—Sheppard AFB | F | 6,903 | 6,537 | 3,418 | 6,903
0117 | 59th Med Wing—Lackland AFB | F | 8,640 | 8,222 | 4,297 | 8,640
0119 | 75th Med Grp—Hill AFB | F | 5,983 | 5,693 | 2,976 | 5,983
0120 | 1st Med Grp—Langley AFB | F | 5,954 | 5,666 | 2,962 | 5,954
0121 | McDonald ACH—Ft. Eustis | A | 5,649 | 5,376 | 2,810 | 5,649
0123 | Dewitt AH—Ft. Belvoir | A | 8,237 | 7,839 | 4,097 | 8,237
0124 | NH Portsmouth | N | 7,469 | 7,107 | 3,715 | 7,469
0125 | Madigan AMC—Ft. Lewis | A | 11,018 | 10,435 | 5,455 | 11,018
0126 | NH Bremerton | N | 8,165 | 7,733 | 4,043 | 8,165
0127 | NH Oak Harbor | N | 6,283 | 5,979 | 3,125 | 6,283
0129 | 90th Med Grp—F.E. Warren AFB | F | 6,989 | 6,619 | 3,460 | 6,989
0131 | Weed ACH—Ft. Irwin | A | 7,003 | 6,633 | 3,467 | 7,003
0449 | 24th Med Grp—Howard | F | 9,489 | 9,045 | 3,872 | 9,489
0606 | 95th CSH—Heidelberg | A | 9,489 | 9,045 | 3,872 | 9,489
0607 | Landstuhl Rgn MC | A | 9,489 | 9,045 | 3,872 | 9,489
0609 | 67th CSH—Wurzburg | A | 9,489 | 9,045 | 3,872 | 9,489
0612 | 121st Gen Hosp—Seoul | A | 9,489 | 9,045 | 3,872 | 9,489
0615 | NH Guantanamo Bay | N | 9,489 | 9,045 | 3,872 | 9,489
0616 | NH Roosevelt Roads | N | 9,489 | 9,045 | 3,872 | 9,489
0617 | NH Naples | N | 9,489 | 9,045 | 3,872 | 9,489
0618 | NH Rota | N | 9,489 | 9,045 | 3,872 | 9,489
0620 | NH Guam | N | 9,489 | 9,045 | 3,872 | 9,489
0621 | NH Okinawa | N | 9,489 | 9,045 | 3,872 | 9,489
0622 | NH Yokosuka | N | 9,489 | 9,045 | 3,872 | 9,489
0623 | NH Keflavik | N | 9,489 | 9,045 | 3,872 | 9,489
0624 | BH Sigonella | N | 9,489 | 9,045 | 3,872 | 9,489
0633 | 48th Med Grp—RAF Lakenheath | F | 9,489 | 9,045 | 3,872 | 9,489
0635 | 39th Med Grp—Incirlik AB | F | 9,489 | 9,045 | 3,872 | 9,489
0638 | 51st Med Grp—Osan AB | F | 9,489 | 9,045 | 3,872 | 9,489
0639 | 35th Med Grp—Misawa | F | 9,489 | 9,045 | 3,872 | 9,489
0640 | 374th Med Grp—Yokota AB | F | 9,489 | 9,045 | 3,872 | 9,489
0805 | 52nd Med Grp—Spangdahlem | F | 9,489 | 9,045 | 3,872 | 9,489
0808 | 31st Med Grp—Aviano | F | 9,489 | 9,045 | 3,872 | 9,489

2. Department of Health and Human Services

For the Department of Health and Human Services, Indian Health Service, effective October 1, 2000 and thereafter:

Hospital Care Inpatient Day

General Medical Care

Alaska—$1,837

Rest of the United States—$1,357

Outpatient Medical Treatment

Outpatient Visit

Alaska—$337

Rest of the United States—$189

For the period beginning October 1, 2000, the rates prescribed herein superceded those established by the Director of the Office of Management and Budget, November 1, 1999 (64 FR 58862).

Jacob J. Lew,
Director, Office of Management and Budget.

[FR Doc. 00-27726 Filed 10-30-00; 8:45 am]

BILLING CODE 3110-01-P